DEPARTMENT OF HOUSING AND URBAN DEVELOPMENT

[Docket No. FR-5604-N-16]

Notice of Proposed Information Collection: Neighborhood Stabilization Program 2 (NSP2) Reporting

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: February 26, 2013.

ADDRESSES: Interested persons are invited to submit comments regarding this proposal. Comments should refer to the proposal by name and/or OMB Control Number and should be sent to: LaRuth Harper, Department of Housing and Urban Development, 451 7th Street SW., Room 7233, Washington, DC 20410.

FOR FURTHER INFORMATION CONTACT: Stanley Gimont, Director, Office of Block Grant Assistance at (202) 708-3587.

SUPPLEMENTARY INFORMATION: The Department will submit the proposed information collection to OMB for review, as required by the Paperwork Reduction Act of 1995 (44 U.S.C. chapter 35 as Amended).

This Notice is soliciting comments from members of the public and affected agencies concerning the proposed collection of information to: Evaluate whether the proposed collection of information is necessary for the proper performance of the functions of the agency, including whether the information will have practical utility; evaluate the accuracy of the agency's estimate of the burden of the proposed collection of information; enhance the quality, utility, and clarity of the information to be collected; and minimize the burden of the collection of information on those who are to respond; including through the use of appropriate automated collection techniques or other forms of information technology, e.g., permitting electronic submission of responses.

This Notice also lists the following information:

Title of Proposal: Neighborhood Stabilization Program 2 (NSP2) Reporting.

OMB Control Number: 2506-0185.

Description of the need for the Information and proposed use: This information describes the reporting and recordkeeping requirements of the Neighborhood Stabilization Program 2 (NSP2). The data required includes program level, project level and beneficiary level information collected and reported on by NSP2 grantees. The data identifies who benefits from the NSP2 program and how statutory requirement are satisfied. The respondents are State, local government, non-profit and consortium applicants.

Agency form numbers, if applicable: N/A.

Members of affected public: NSP2 grantees are units of state and local governments, non-profits and consortium members.

Estimation of the total numbers of hours needed to prepare the Information collection including number of respondents, frequency of response, and hours of response: The following tables demonstrate the estimated paperwork burden for recipients in the reporting processes. The deadline for the expenditure of NSP2 funds equivalent to the original award amount is February 11, 2013. Following the expenditure deadline, grantees will have the option of requesting closeout of their grant. Post-closeout, grantees will be required to report annually on affordability restriction certifications and program income (PI), if more than $250,000 of PI is generated in a program year. The following three tables show burden hours based on HUD's estimates of grantees requesting and completing closeout, and thus, reflect different burden hours for each of the three fiscal years covered by this collection. The total annualized burden hours requested are 6,082.

Neighborhood Stabilization Program
Description of information collection | Number of respondents | Number of responses | Total number of responses | Hours per response | Total hours | Cost per response | Total cost
(Year 1)
Online Quarterly Reporting via DRGR | 56 | 4 | 224 | 4 | 896 | $96.40 | $86,374
DRGR Voucher Submissions | 56 | 38 | 2,102 | 0.18 | 378 | 4 | 1,642
Total Paperwork Burden | N/A | 42 | 2,326 | N/A | 16,597 | N/A | 88,016
(Year 2)
Online Quarterly Reporting via DRGR | 42 | 4 | 168 | 4 | 672 | 96.40 | 64,781
Quarterly Voucher Submissions | 42 | 38 | 1,596 | 0.18 | 287 | 4 | 1,246
Annual Reporting via DRGR/IDIS | 14 | 1 | 14 | 3 | 42 | 72.30 | 3,037
Annual Income Certification Reporting | 14 | 1 | 14 | 3 | 42 | 72.30 | 3,037
Total Paperwork Burden | N/A | 10 | 1,792 | N/A | 1,043 | N/A | 72,100
(Year 3)
Online Quarterly Reporting via DRGR | 22 | 4 | 88 | 4 | 352 | 96.40 | 33,933
Annual Reporting via DRGR/IDIS | 34 | 1 | 34 | 4 | 136 | 96.40 | 13,110
Quarterly Voucher Submissions | 22 | 4 | 88 | 0.18 | 15.84 | 4.34 | 69
Annual Income Certification Reporting | 34 | 1 | 34 | 3.00 | 102 | 72.30 | 7,375
Total Paperwork Burden | N/A | 10 | 244 | N/A | 606 | N/A | 54,487

Status of the proposed information collection: Extension of previously approved collection.

Authority: The Paperwork Reduction Act of 1995, 44 U.S.C. Chapter 35, as amended.

Dated: December 20, 2012.
Mark Johnston,
Deputy Assistant Secretary for Special Needs Programs.

[FR Doc. 2012-31195 Filed 12-27-12; 8:45 am]

BILLING CODE 4210-67-P